FEDERAL COMMUNICATIONS COMMISSION

Notice of Public Information Collection(s) Being Reviewed by the Federal Communications Commission for Extension Under Delegated Authority

October 13, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 19, 2005. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION:

OMB Control No.: 3060-0962.

Title: Redesignation of the 18 GHz Frequency Band, Blanket Licensing of Satellite Earth Stations in the Ka-Band and the Allocation of Additional Spectrum for Broadcast Satellite Service Use.

Form No.: N/A.

Type of Review: Extension of a currently approved collection.

Respondents: Business or other for-profit.

Number of Respondents: 5 respondents; 590 responses.

Estimated Time Per Response: 1-4 hours.

Frequency of Response: Annual and on occasion reporting requirements, third party disclosure requirement, and recordkeeping requirement.

Total Annual Burden: 590 hours.

Total Annual Cost: $51,000.

Privacy Act Impact Assessment: N/A.

Needs and Uses: This information collection is necessary for the Commission to determine whether licensees complied with the rules applicable to satellite earth stations and to deploy new satellite systems. If the collection were not conducted, the Commission would not be able to verify whether Geostationary Satellite Orbit (GSO) fixed satellite service (FSS) earth stations in the Ka-Band were operating in accordance with the Commission's rules. Additionally, spectrum would not be used most efficiently and, therefore, would result in hindering the provision of new or enhanced telecommunications services to the public.

After the 60 day comment period has ended, the Commission will submit this information collection to OMB as an extension (no change in requirements) in order to obtain the full three-year clearance.

Federal Communications Commission.
Marlene H. Dortch,
Secretary.

[FR Doc. 05-21000 Filed 10-19-05; 8:45 am]

BILLING CODE 6712-01-P